DEPARTMENT OF HEALTH AND HUMAN SERVICES

Indian Health Service

List of Recipients of Indian Health Scholarships Under the Indian Health Scholarship Program

The regulations governing Indian Health Care Improvement Act Programs (Pub. L. 94-437) provide at 42 CFR 36.334 that the Indian Health Service shall publish annually in the Federal Register a list of recipients of Indian Health Scholarships, including the name of each recipient, school and tribal affiliation, if applicable. These scholarships were awarded under the authority of sections 103 and 104 of the Indian Health Care Improvement Act, 25 U.S.C. 1613-1613a, as amended by the Indian Health Care Amendments of 1988, Pub. L. 100-713.

The following is a list of Indian Health Scholarship Recipients funded under Sections 103 and 104 for Fiscal Year 2001:

Abeita, Lynn Ann, Arizona State University, Pueblo of Isleta, NM

Abeita, Steven John, University of New Mexico-Albuquerque, Pueblo of Isleta, NM

Adams, Andrea L., University of North Dakota, Assiniboine & Sioux Tribes of the Fort Peck Indian Reservation, MT

Alexander, Andrea Lynn, University of Central Oklahoma, Seminole Nation of Oklahoma

Alexander, Lise Kalliah, University of Washington School of Medicine, Confederated Tribes of the Grand Ronde Community of Oregon

Allery, Cynthia Ann, University of North Dakota, Turtle Mountain Band of Chippewa Indians of North Dakota

Allery, Lonnie William, Turtle Mountain Community College, Turtle Mountain Band of Chippewa Indians of North Dakota

Allison, Rochelle Jade, Arizona State University, Navajo Tribe of AZ, NM, & UT

Alonzo, Pearl Ann, University of New Mexico, Navajo Tribe of AZ, NM, & UT

Anagal, Laura Ann, Northland Pioneer College, Navajo Tribe of AZ, NM, & UT

Anderson, Ella Mae, Gateway Community College, Navajo Tribe of AZ, NM, & UT

Anderson-McMillan, Tarina Kay, University of Southern Mississippi, Mississippi Band of Choctaw Indians, MS

Arnold, Delphine, University of New Mexico-Gallup, Navajo Tribe of AZ, NM, & UT

Arredondo, LaDonna Leann, Southwestern Oklahoma State University, Choctaw Nation of Oklahoma

Arviso, Angela, University of New Mexico, Navajo Tribe of AZ, NM, & UT

Ashley, Jeannette, New Mexico State University-Albuquerque, Navajo Tribe of AZ, NM, & UT

Ashley, Natalie Lynn, Arizona State University, Navajo Tribe of AZ, NM, & UT

Baca, Vonda Jean, Albuquerque Tech-Voc Institute, Pueblo of Jemez, NM

Baca, Wilma Joyce, Albuquerque Tech-Voc Institute, Pueblo of Jemez, NM

Bacoch, Michaele, University of the Pacific School of Pharmacy, Big Pine Band of Owens Valley Paiute Shoshone Indians of the Big Pine Reservation, CA

Bailor, Jeanne Lesley, Bartlesville Wesleyan College, Cherokee Nation, Oklahoma

Bain, Edlin David, University of New Mexico College of Pharmacy, Navajo Tribe of AZ, NM, & UT

Baker, Andrea Monique, University of North Dakota, Muskogee (Creek) Nation, Oklahoma

Barnes, Kellie Elizabeth, University of Oklahoma, Chickasaw Nation, Oklahoma

Barnes, Rebecca Anne, Northeastern State University, Cherokee Nation, Oklahoma

Bartholomew, Michael Lee, Dartmouth Medical School, Kiowa Indian Tribe of Oklahoma

Bates, Vanesscia, Washington University, Navajo Tribe of AZ, NM, & UT

Bearmedicine, Jennifer Lynn, Salish-Kooteenai Community College, Blackfeet Tribe of the Blackfeet Indian Reservation of MT

Becenti, Deann Lynn, University of New Mexico-Gallup, Navajo Tribe of AZ, NM, & UT

Bedoni, Theda, Scottsdale Community College, Navajo Tribe of AZ, NM, & UT

Begay, Lorena Rose, La Sierra University, Navajo Tribe of AZ, NM, & UT

Begay, Michelle, University of Arizona, Navajo Tribe of AZ, NM, & UT

Begay, Mirielle Rose, University of New Mexico, Navajo Tribe of AZ, NM, & UT

Begay, Paula Moiselle, Weber State University, Navajo Tribe of AZ, NM, & UT

Begay, Pierrette Rose, University of New Mexico-Albuquerque, Navajo Tribe of AZ, NM, & UT

Begay, Tamana Dollicia, University of the Pacific, Navajo Tribe of AZ, NM & UT

Begaye, Dorothea Tricia, Albuquerque Tech-Voc Institute, Navajo Tribe of AZ, NM, & UT

Behymer, Virginia May, University of Alaska-Anchorage, Aleut, AK

Benally, Annisa, New Mexico Highland University, Navajo Tribe of AZ, NM, & UT

Benally, Yolanda Jean, New Mexico State University, Navajo Tribe of AZ, NM, & UT

Berquist, Melissa Dawn, University of North Dakota, Turtle Mountain Band of Chippewa Indians of North Dakota

Berryhill-Baker, Tishanda Leigh, University of Utah College of Medicine, Muskogee (Creek) Nation, Oklahoma

Bessette, Megan Holly, Whitman College, White Mountain Apache Tribe of the Fort Apache Reservation, AZ, Wichita and Affiliated Tribes (Wichita, Keechi, Waco & Tawakonie), OK

Betonie, Darlene Smith, University of Minnesota School of Nursing, Navajo Tribe of AZ, NM, & UT

Beyale, Justina, Northern Arizona University, Navajo Tribe of AZ, NM, & UT

Bighorn, Lisa Elaine, University of Denver, Assiniboine & Sioux Tribes of the Fort Peck Indian Reservation, MT

Bighorn, Prairie Rose, Rocky Mountain College, Assiniboine & Sioux Tribes of the Fort Peck Indian Reservation, MT

Billy, Matilda, New Mexico Highlands University, Navajo Tribe of AZ, NM, & UT

Bingham, Zachary Scott, University of New Mexico-Albuquerque, Cherokee Nation, Oklahoma

Blackwolf, Kerrie Ann, Rose State College, Cheyenne-Arapaho Tribes of Oklahoma

Boloz, Angelita Colleen, Northern Arizona University, Navajo Tribe of AZ, NM, & UT

Booth, Loretta Marie, Pacific University College, Cheyenne River Sioux Tribe of the Cheyenne River Reservation, SD

Boyd, Cassandra Iva, University of New Mexico-Albuquerque, Navajo Tribe of AZ, NM, & UT

Bradley, Stephanie, East Carolina University School of Medicine, Eastern Band of Cherokee Indians of North Carolina

Brantingham, Michael James, Pacific Union College, Eskimo

Breland, Kylie Lea, University of North Dakota, Turtle Mountain Band of Chippewa Indians of North Dakota

Briggs, Misty Elaine, Northeastern State University, Cherokee Nation, Oklahoma

Brinson, Timothy James, East Central University, Citizen Potawatomi Nation, Oklahoma

Brooks-Dugger, Shelly Beth, Southwest Texas State University, Cherokee Nation, Oklahoma

Brosel, Conrad Carl, Cardinal Stritch University, Oneida Tribe of Wisconsin

Brown, Christina Ann, University of California-San Diego, Paiute-Shoshone Indians of the Bishop Community of the Bishop Colony, CA

Brown, Gerald Ray, Southwestern Oklahoma State University, Cherokee Nation, Oklahoma

Brown, Laverne, University of New Mexico-Gallup, Navajo Tribe of AZ, NM, & UT

Bruce-Gallardo, Dawn Marie, University of North Dakota, Turtle Mountain Band of Chippewa Indians of North Dakota

Bryant, Idella Marie, Midwestern University, Cherokee Nation, Oklahoma

Bryant, Joseph Preston, Southwestern Oklahoma State University, Cherokee Nation, Oklahoma Buenting, Lisa Lynette, Loma Linda University, Mesa Grand Band of Diegueno Mission Indians of the Mesa Grande Reservation, CA

Bullard, Averna Lee, Indian University/Purdue University, Lumbee

Burk, Kristi Carroll, Fort Lewis College, Alaska Native

Burris, Brandon Christopher, University of Texas-Austin, Caddo Indian Tribe of Oklahoma

Burton, Marlette Alyce, Pima Community College, Navajo Tribe of AZ, NM, & UT

Busch, Richard Eugene, University of Alaska-Fairbanks, Alaska Native

Butterfly, Glenn Curtis, Pima Medical Institute, Blackfeet Tribe of the Blackfeet Indian Reservation of MT

Cain, Marcia Lynnette, University of Montana School of Pharmacy, Sitka Tribe Community Association

Calf Looking, John Fitzgerald, University of Washington Medex Northwest Program, Blackfeet Tribe of the Blackfeet Indian Reservation of MT

Calf Robe, Douglas Wayne, University of Washington Medex Northwest Program, Blackfeet Tribe of the Blackfeet Indian Reservation of MT

Calvin, Shawn Allen, University of Oklahoma Health Sciences Center, Choctaw Nation of Oklahoma

Calvin-Salyer, Amber Lorine, Oklahoma State University, Choctaw Nation of Oklahoma

Campbell, Gabriel Antonio, University of North Dakota, Confederated Salish & Kootenai Tribes of the Flathead Reservation, MT

Campbell, Jamie Renae, University of Oklahoma, Muskogee (Creek) Nation, Oklahoma

Carlson, Ingrid Marie, University of Washington Medex Northwest Program, Qagan Tayagungin Tribe of Sand Point Village

Carter, Jason Daniel, University of Oklahoma Health Sciences Center, Cherokee Nation, Oklahoma

Cary, Brenda Lee, University of Minnesota-Twin Cities Medical School, Oneida Tribe of Wisconsin

Cavanaugh, Casey Lynne, Idaho State University, Shoshone-Paiute Tribes of the Duck Valley Reservation, NV

Charles, Tracey Roseann, University of Tennessee-Memphis, Choctaw Nation of Oklahoma

Chastain, Brian Gene, East Central University, Muskogee (Creek) Nation, Oklahoma Chatter, Teddy Duke, University of Arizona College of Medicine, Navajo Tribe of AZ, NM, & UT

Chavez, Leann Ahkeebah, University of New Mexico-Alburquerque, Navajo Tribe of AZ, NM, & UT

Chee, Darlene Begay, Northern Arizona University, Navajo Tribe of AZ, NM, & UT

Childless, Michelle Josett, University of Central Oklahoma, Seminole Nation of Oklahoma

Chimoni, Reinette J., University of New Mexico-Gallup, Zuni Tribe of the Zuni Reservation, NM

Clark, Dorrance Dean, University of Michigan, Assiniboine & Sioux Tribes of the Fort Peck Indian Reservation, MT

Clark, Kari Rose, Mesa Community College, Navajo Tribe of AZ, NM, & UT

Cole, Jennifer Lyn, University of Oklahoma, Choctaw Nation of Oklahoma

Collins, Aaron Bradley, Oklahoma Baptist University, Citizen Potawatomi Nation, Oklahoma

Cook, Ellen Maxine, University of Vermont, St. Regis Band of Mohawk Indians of New York

Cooper, April Deann, University of Central Arkansas, Cherokee Nation, Oklahoma

Cooper, Benjamine Dale, Northeastern State University, Cherokee Nation, Oklahoma

Corley, Ethelinda Whitey, San Juan Community College, Navajo Tribe of AZ, NM, & UT

Corson, Hillary Lena, Montana State University-Bozeman, Crow Tribe of Montana

Cree, Sharon, University of North Dakota, Turtle Mountain Band of Chippewa Indians of North Dakota

Croley, Amanda Jo, University of Oklahoma Health Sciences Center, Cherokee Nation, Oklahoma

Cromer, Kelly Jenise, Southwestern Oklahoma State University, Cheyenne-Arapaho Tribes of Oklahoma

Culver-Blackbear, Jennifer Lyn, Northeastern State University, Cherokee Nation, Oklahoma

Cummings, James Jackson, Southwestern Oklahoma State University, Cherokee Nation, Oklahoma

Cunningham-Hartwig, Roxie Kim, University of Washington School of Medicine, Nez Perce of Idaho

Curley, Florinda, Grand Canyo College, Navajo Tribe of AZ, NM & UT

Dailey, Samuel, University of Alabama-Birmingham, Navajo Tribe of AZ, NM & UT

Daughterty, Jamie Suzette, University of Oklahoma Health Sciences Center, Cherokee Nation, Oklahoma

Davis, Allison Kay, University of North Dakota, Crow Creek Sioux Tribe of the Crow Creek Reservation, SD

Davis, Amber Lynn, University of Oklahoma, Muskogee (Creek) Nation, Oklahoma

Davis, Cheron Lea, University of North Dakota, Turtle Mountain Band of Chippewa Indians of North Dakota

Davis, Jason Russell, Lane Community College, Chickasaw Nation, Oklahoma

Dawes, Kari Elaine, University of Iowa, Cherokee Nation, Oklahoma

Dean, Erica Rae, Oklahoma State University, Choctaw Nation of Oklahoma

Decoteau, Chrystal Dawn, Rocky Mountain College, Blackfeet Tribe of the Blackfeet Indian Reservation of MT

Decoteau, Michelle Germaine, Minot State University, Turtle Mountain Band of Chippewa Indians of North Dakota

Dele, Lessina, Midwestern University, Navajo Tribe of AZ, NM, & UT

Delgado, Jamael Theresa, Northern Arizona University, Navajo Tribe of AZ NM, & UT

Delgado, Jamael Theresa, Northern Arizona University, Navajo Tribe of AZ, NM, & UT

Delmar, Marjorie, Northern Arizona University, Navajo Tribe of AZ, NM, & UT

Delment, Rachael Leah, Emory University School of Medicine, Oglala Sioux Tribe of the Pine Ridge Reservations, SD

Denson, Kent Douglas, University of Oklahoma Health Sciences Center, Chickasaw Nation, Oklahoma

Deshnod, Sheilah A., University of Oklahoma Health Sciences Center, Navajo Tribe of AZ, NM, & UT

Detmer, Sandra Joy, Modesto Junior College, Turtle Mountain Band of Chippewa Indians of North Dakota

Dineyazhe, Dawn Capri, Norther Arizona Tribe of AZ, NM, & UT

Dixon, Damon Brian, University of North Dakota, Hopi Tribe of AZ

Dixon, Missena Elizabeth, University of Oklahoma, Seminole Nation of Oklahoma

Elder, Shirley-Anne, Northern Montana College, Assiniboine & Sioux Tribes of the Fort Peck Indian Reservation, MT

Edwards, Kerry Rachelle, University of Oklahoma, Cherokee Nation, Oklahoma

Edwards, Ralph Casey, University of Oklahoma Health Sciences Center, Cherokee Nation, Oklahoma

Elliott, Billy Wayne, Northern Arizona University, Wyandotte Tribe of Oklahoma

Ellis, Scott Anthony, Oklahoma City, University, Cherokee Nation, Oklahoma

Emerson, Janice Odette, University of Oklahoma Health Sciences Center, Kiowa Indian Tribe of Oklahoma

Eriacho, Margaret Alisha, University of New Mexico-Albuquerque, Zuni Tribe of the Zuni Reservation, NM

Esalio, Stacy Gwen, University of New Mexico-Albuquerque, Zuni Tribe of the Zuni Reservation, NM

Evans-Kipp, Crystal Rose, University of North Dakota, Blackfeet Tribe of the Blackfeet Indian Reservation of MT

Fayer, Kayleen Coupchiak, University of Alaska, Traditional Village of Togiak

Fingerlin-Goodman, Nancy Ellen, University of Olahoma, Chickasaw Nation, Oklahoma

Fisher, Joe Keith, University of New Mexico, Choctaw Nation of Oklahoma Fleming, Stephani Rose, University of Wyoming, Turtle Mountain Band of Cippewa Indians of North Dakota

Fragua, Kari Lynn, University of New Mexico-Albuquerque, Pueblo of Jemez, NM

Francis, Kaydee Ann, University of New Mexico-Gallup, Navajo Tribe of AZ, NM, & UT

Francis, Molly Marie, Creighton University, Confederated Tribes of the Colville Reservation, WA

Franklin, Richard Arnold, Northeastern State University, Cherokee Nation, Oklahoma

Frazier, Sonya Robin, East Central Oklahoma State University, Chickasaw Nation, Oklahoma

Fred, Alana Renee, University of Arizona, Navajo Tribe of AZ, NM, & UT,

Fredy, Jefferson, University of New Mexico College of Pharmacy, Navajo Tribe of AZ, NM, & UT

Freeman, Michael Scott, University of the Health Sciences College of Osteopathic Medicine, Cherokee, Nation, Olahoma

Freeman, Ryan Matthew, University of Oklahoma Health Sciences Center, Muskogee (Creek) Nation, Oklahoma

Frigerio, Sonya Renee, University of New Mexico-Gallup, Choctaw Nation of Oklahoma

Fryear Carrie Marie, Southwestern Oklahoma State University, Chickasaw Nation, Oklahoma

Gaddy, Jasmine Reanna, Temple University School of Medicine, Navajo Tribe of AZ, NM, & UT

Gamble, Wanda, Northern Arizona University, Navajo Tribe of AZ, NM, & UT

Garness, Mary, University of Wisconsin-Superior, Bad River Band of the Lake Superior Tribe of Chippewa Indians of the Bad River Reservation, WI

Garza, Jolanda Evelyn, East Central Oklahoma State University, Pueblo of Jenez, NM

George, Margie Ann, Northland Pioneer College, Hopi Tribe of AZ

Gerry, Jon Michael, Stanford University, Cheyenne River Sioux Tribe of the Cheyenne River Reservation, SD

Gerry, Ryan Richard, MacAlester College, Cheyenne River Sioux Tribe of the Cheyenne River Reservation, SD

Glasses, Devin Garrick, University of Arizona, Navajo Tribe of AZ, NM, & UT

Glock, Jacquelyn, Southwest Missouri State University, Choctaw Nation of Oklahoma

Gloshay, Jr., Eddie, University of Arizona, White Mountain Apache Tribe of the Ft. Apache Reservation, AZ, Wichita and Affilated Tribes (Wichita, Keechi, Waco & Tawakonie), OK

Goldtooth, Renee Ryan, University of Arizona College of Medicine, Navajo Tribe of AZ, NM, & UT

Goodman Gayla Beth, University of Maryland School of Medicine, Kickapoo Tribe of Oklahoma

Gratz, Addie Beth, University of Oklahoma Health Sciences Center, Chickasaw Nation, Oklahoma

Gary, Cori Ann, University of Oklahoma Health Sciences Center, Osage Tribe, Oklahoma

Gray, Jason Charles, University of Oklahoma Health Sciences Center, Choctaw Nation of Oklahoma

Gray, Jennifer Anne, University of Oklahoma Health Sciences Center, Osage Tribe, Oklahoma

Griffith, Kimberly Dawn, Grand Canyon University, Tohono O'odham Nation of Arizona

Guin, Heather Elaine, University of Tulsa, Muskogee (Creek) Nation, Oklahoma

Gust, Kateri Lyn, Montana State University School of Nursing, Crow Tribe of Montana

Hagerty, Kori Lynn, University of New Mexico-Albuquerque, Blackfeet Tribe of the Blackfeet Indian Reservations of MT

Hall, Brian Patrick, University of Montana, Blackfeet Tribe of the Blackfeet Indian Reservation of MT

Hall, Megan Sue, Northeastern State University, Choctaw Nation of Oklahoma

Hall, Raquel Ellen, University of California-Davis, Coastal Bank of the Chumash Nation

Harjo, Rebecca Ruth, University of Southern California School of Social Work, Muskogee (Creek) Nation, Oklahoma

Harnage, Julie Ann, University of Cental Oklahoma, Cherokee Nation, Oklahoma

Harris, Elizabeth Kate, Oklahoma State University College of Osteopathic Medicine, Cherokee Nation, Oklahoma

Harrison, Geniel, University of North Dakota, Confederated Tribes of the Goshute Reservation, NV and UT

Haukass, Nicole Marie, Creighton University College of Nursing, Rosebud Sioux Tribe of the Rosebud Indian Reservation, SD

Hawkins, Amy Delah, Tulane University Health Sciences Center, Muskogee (Creek) Nation, Oklahoma

Hayes-Coons, Jennifer, Lynn, Har-Bor Jones School of Nursing, Cherokee Nation, Oklahoma

Hearod, Karen Elaine, University of Oklahoma School of Social Work, Choctaw Nation of Oklahoma

Henderson, Traci Nicole, University of Great Falls, Chippewa-Cree Inidians of the Rocky Boy's Reservation, MT

Henio, Regina, University of New Mexico-Gallup, Navajo, Tribe of AZ, NM, & UT

Henry, Abraham John, Augsburg College, Turtle Mountain Band of Chippewa Indians of North Dakota

Henry, Liza Jo, University of North Dakota, Turtle Mountain Band of Chippewa Indians of North Dakota

Henson-Meigs, Amy Jo, University of Tulsa, Cherokee Nation, Oklahoma

Henson-Sammuels, Andrea Jean, Northeastern Oklahoma State University, Cherokee Nation, Oklahoma

Hernandez, Eveylyn Leone, Walla Walla College, Confederated Salish & Kootenai Tribes of the Flathead Reservation, MT

Hewlett, Lori, Araphao Community College, Navajo Tribe of AZ, NM, & UT

Hick, Carrie, University of New Mexico College of Pharmacy, Navajo, Tribe of AZ, NM, & UT

Hisaw, Tasha Leann, University of Oklahoma Health Sciences Center Chickasaw Nation, Oklahoma

Holland, Toni Jean, Montana State University-Billings, Fort Belknap Indian Community of the Fort Belknap Reservation of Montana

Holman, Colin Justin, University of Oklahoma, Chickasaw Nation, Oklahoma

Holmes, Michael Sterling, East Central Oklahoma State University Cheyenne-Arapaho Tribes of Oklahoma

Honaberger, David Anthony, University of Puget Sound, Pueblo of San Juan, NM

Hoover, Jamie Ellen, Arizona School of Health Sciences, Chemehuevi Indian Tribe of the Chemehuevi Reservation, California

Horse, Lorena Dawn, University of Utah School of Social Work, Confederated Tribes of the Goshute Reservation, NV and UT

Houston, Lindsay Nicole, Bacone College, Cherokee Nation, Oklahoma

Howeya, Lori Ann, University of New Mexico, Pueblo of Acoma, NM

Howling Wolf, William L., University of North Dakota, Three Affiliated Tribes of the Ft. Berthold Reservation, ND

Huber, Donna Marie, University of Phoenix, Rosebud Sioux Tribe of the Rosebud Indian Reservation, SD

Huerth, Benjamin Walter, University of Maine, Winnebago Tribe of Nebraska

Hulse, Hailey Vonn, Truman State University, Osage Tribe, Oklahoma

Hunt, Matthew Hensdale, North Carolina State University, Lumbee

Hyatt, Jacqueline Rooke, University of Oklahoma, Muskogee (Creek) Nation, Oklahoma

Hyden, Andreana Dee, Grand Canyon College, Navajo Tribe of AZ, NM, & UT

Imperial, Jessica Ladonna, Coconino County Community College, Navajo Tribe of AZ, NM, & UT

Ingram, Sonya Lynn, Connors State College, Cherokee Nation, Oklahoma

Interpreter, Christina Lynn, Northern Arizona University, Hopi Tribe of AZ

Ivanoff, Nora Rose, University of Washington, Eskimo

James, Jessica Natasha, Northern Arizona University, Navajo Tribe of AZ, NM, & UT

Jefferson, Natalie Ruth, University of Kansas School of Social Welfare, Choctaw Nation of Oklahoma

Jensen, Janelle Blake, University of Arizona, Navajo Tribe of AZ, NM, & UT

Jensen, Vanessa, University of Arizona College of Medicine, Navajo Tribe of AZ, NM, & UT

Johnson, Jason Ray, University of North Dakota, Cherokee Nation, Oklahoma

Johnson, Kevin Lee, Weber State University, Navajo Tribe of AZ, NM, & UT

Johnson, Roxanne Marie, University of North Dakota, Turtle Mountain Band of Chippewa Indians of North Dakota

Johnson, Tara Lee, Northern Arizona University, Navajo Tribe of AZ, NM, & UT

Joice, Kelly A., University of Oklahoma, Cherokee Nation, Oklahoma

Joines, John Clifford, University of Oklahoma Health Sciences Center, Choctaw Nation of Oklahoma

Jones, Bernadine Rose, Northern Arizona University, Navajo Tribe of AZ, NM, & UT

Jones, Christopher Lee, Univesity of North Dakota, Cherokee Nation, Oklahoma

Jones, Generosa Diane, Drake University College of Pharmacy, Choctaw Nation of Oklahoma

Jones, Julia M., Northern Arizona University, Navajo Tribe of AZ, NM, & UT

Jones, Myles Randall, University of Nebraska College of Medicine, Choctaw Nation of Oklahoma

Jordan, Michael James, Washington State University, Confederated Tribes of the Colville Reservation, WA

Julian, Serena Yazzie, University of New Mexico College of Pharmacy, Navajo Tribe of AZ, NM, & UT

Juneau, Rose Ann, Salish-Kootenai Community College, Fort Belknap Indian Community of the Fort Belknap Reservation of Montana

Kanawite, Freida Mae, Albuquerque Tech-Voc Institute, Navajo Tribe of AZ, NM, & UT

Kanuho, Verdell, Northern Arizona University, Navajo Tribe of AZ, NM, & UT

Kardonsky, Kimberly Jay, Medical College of Wisconsin, Jamestown S'Klallam Tribe of Washington

Kelley, Harlan Hunt, Southern Illinois University School of Medicine, Cherokee Nation, Oklahoma.

Kelley Ralph Zane, University Health Sciences College of Osteopathic Medicine, Cherokee Nation, Oklahoma

Kelliher, Allison Miranda, University of Washington School of Medicine, Nome Eskimo Community

Kennedy, Jamie Sue University of Montana, Blackfeet Tribe of the Blackfeet Indian Reservation of MT

Kenneth Lena Mae, Arizona State University, Navajo Tribe of AZ, NM, & UT

Kinlecheenie, Orlinda Lou, Northland Pioneer College, Navajo Tribe of AZ, NM, & UT

Kinney, Sahar Amelia, Tufts University, Turtle Mountain Band of Chippewa Indians of North Dakota

Kipp, Barbara Malia, Salish Kootenai Community College, Blackfeet Tribe of the Blackfeet Indian Reservation of MT

Kirk, John Vincent, Oklahoma State University College of Osteophatic Medicine, Cherokee Nation, Oklahoma

Kitto, Laurie Dale, Strayer University, Choctaw Nation of Oklahoma

Krulish, Arliss Mary, University of North Dakota, Spirit Lake Tribe, ND

Krulish, Arlene Marie, University of North Dakota, Spirit Lake Tribe, ND

Lamere, Jennifer Jo, University of Oklahoma Health Sciences Center, Winnebago Tribe of Nebraska

Landers, Joseph Henry, East Central University, Muskogee (Creek) Nation, Oklahoma

Lansing, Letitia Bianca, University of New Mexico-Albuquerque, Navajo Tribe of AZ, NM & UT

Large, Stephanie Ashley, University of Oklahoma School of Social work, Muskogee (Creek) Nation, Oklahoma

Large, Dinah Mae, San Juan College, Navajo Tribe of AZ, NM, & UT

Laurence, Stacie, University of New Mexico, Navajo Tribe of AZ, NM, & UT

Laurence-Leslie, Faith Hope, Arizona State University, Navajo Tribe of AZ, NM, & UT

Lawhorn, William Andrew, University of Oklahoma Health Sciences Center, Cherokee Nation, Oklahoma

Lawrence, Gary Lynn, Carl Albert State College, Choctaw Nation of Oklahoma

Lawrence, Heather L., University of North Dakota, Spirit Lake Tribe ND

Lay Pamela Christine, Yakima Valley Community College, Muskogee (Creek) Nation, Oklahoma

LeBeau, Michael Edward, University of North Dakota, Cheyenne River Sioux Tribe of the Cheyenne River Reservation, SD

Lee, Calbert Aaron, University of New Mexico-Albuquerque, Navajo Tribe of AZ, NM, & UT

Lee, Lori C., North Arizona University, Navajo Tribe of AZ, NM, & UT

Lee, Marjorie Mae, Diné College, Navajo Tribe of AZ. NM, & UT

Leemhuis, Stephanie Brook, University of Oklahoma Health Sciences Center, Cherokee Nation, Oklahoma

Lessert, Amanda Kaye, Creighton University, Oglala Sioux Tribe of the Pine Ridge Reservation, SD

Lewis, Erik Clay, Salish-Kootenai Community College, Confederated Salish & Kootenai Tribes of the Flathead Reservation, MT

Lewis, Rusty Oswald, University of North Dakota, Spirit Lake Tribe, ND

Lincoln, Kelly Michelle, Boston College, Navajo Tribe of AZ, NM, & UT

Long Lorenda T., University of New Mexico-Albuquerque, Navajo Tribe of AZ, NM, & UT

Long, Melanie, New Mexico State University, Navajo Tribe of AZ, NM, & UT

Long, Piper Lynn, University of Tulsa, Osage Tribe, Oklahoma

Long, Terri Leigh, Excelsior College, Cheyenne-Arapaho Tribes of Oklahoma

Longbrake, Guy Brady, Black Hills State University, Cheyenne River Sioux Tribe of the Cheyenne River Reservation, SD

Longie, Michelle Renee, University of North Dakota, Turtle Mountain Band of Chippewa Indians of North Dakota

Looney, Joshua Carson, University of Oklahoma, Cherokee Nation, Oklahoma

Lopez-Martin, Tanya Elizabeth, University of Kansas School of Social Welfare, Pueblo of Pojoaque, NM

Lowe, Loretta, University of New Mexico-Gallup, Navajo Tribe of AZ, NM, & UT

Lucke, Bobbi, Montana State University, Blackfeet Tribe of the Blackfeet Indian Reservation of MT

Luebke, Jeneile Marie, University of Wisconsin-Madison, Bad River Band of the Lake Superior Tribe of Chippewa Indians of the Bad River Reservation, WI

Mahooty, Stephanie Juliet, Arizona State University, Zuni Tribe of the Zuni Reservation, NM

Malaterre, Jessica Kim, University of North Dakota, Turtle Mountain Band of Chippewa Indians of North Dakota

Mallon, Nicole Elizabeth, Springfield College, Cherokee Nation, Oklahoma

Mariano, Karoline Shirley, Northern Arizona University, Navajo Tribe of AZ, NM, & UT

Martin, Candelaria Cynthia, University of North Dakota, Navajo Tribe of AZ, NM, &UT

Martine, Cynthia Ann, University of North Dakota, Jicarilla Apache Tribe of the Jicarilla Apache Indian Reservation, NM

Martinez, Marie Jeannette, Weber State University, Navajo Tribe of AZ, NM, & UT Mason, Laquita Joy, University of Montana State School of Pharmacy, Three Affiliated Tribes of the Ft. Berthold Reservation, ND

Mathis, Trina C., University of New Mexico-Albuquerque, Navajo Tribe of AZ, NM, & UT

Matt, Georgia Lee, University of Utah, Blackfeet Tribe of the Blackfeet Indian Reservation of MT

Maxon, Jeff Allen, North Dakota State University, Cheyenne River Sioux Tribe of the Cheyenne River Reservation, SD

McCarthy, Vincent Paul, Cameron University, Comanche Indian Tribe, OK

McCuistion, Robin Edward, Western Washington University, Aleut, AK

McGhee, Julie Lynette, University of Oklahoma Health Sciences Center, Poarch Band of Creek Indians of Alabama

McGilbary, Kristie Rae, Seminole State College, Kiowa Indian Tribe of Oklahoma

McGillis, Jessica Therese, Minot State College, Turtle Mountain Band of Chippewa Indians of North Dakota

McGlothin, Travis Michael, Harvard Medical School, Pueblo of Laguna, NM

McKerry, Jason Amel, Grand Canyon College, Navajo Tribe of AZ, NM, & UT

McLain, Stefanie Jeanne, Oklahoma State University, Cherokee Nation, Oklahoma

McLaughlin, Audrey Jane, Central Oregon Community College, Yurok Tribe of the Yurok Reservation, California

Menz, Dore Lee, Pacific University, Assiniboine & Sioux Tribes of the Fort Peck Indian Reservation, MT

Merchant, Nicole Dawn, Montana State Universty School of Nursing, Crow Tribe of Montana

Miles, Mary Kristen, Northern Oklahoma College, Osage Tribe, Oklahoma

Milford, Ginalori, University of New Mexico-Gallup, Navajo Tribe of AZ, NM, & UT

Mitchell, Jessica Delphine, University of New Mexico-Gallup, Navajo Tribe of AZ, NM, & UT

Momberg, Christina Ann, Salish-Kootenai Community College, Blackfeet Tribe of the Blackfeet Indian Reservation of MT

Montano, Alicia Dawn, University of Arizona-Tucson, Navajo Tribe of AZ, NM, & UT

Montoya, Danny Dave, University of Alaska School of Nursing, Navajo Tribe of AZ, NM, & UT

Moore, Jennifer Marie, University of New Mexico-Albuquerque, Navajo Tribe of AZ, NM & UT

Moore, Mark Wilburn, University of Texas SW Medical Center-Dallas, Cherokee Nation, Oklahoma

Morgan, Collandra Karen, Northern Arizona University, Navajo Tribe of AZ, NM, & UT

Morris, Elizabeth Lynette, University of Oklahoma Health Sciences Center, Muskogee (Creek) Nation, Oklahoma

Morrison, Gerlinde Maria, University of Montana, Crow Tribe of Montana Mousseau, Francine Louise, University of North Dakota, Oglala Sioux Tribe of the Pine Ridge Reservation, SD

Murphy, Tamelot Lynne, University of New Mexico-Albuquerque, Navajo Tribe of AZ, NM, & UT

Murray, Ais Kerry William, University of Colorado, Shoshone Tribe of the Wind River Reservation, Wyoming

Muskett, Eunice Annazbah, University of New Mexico-Albuquerque, Navajo Tribe of AZ, NM, & UT

Naasz, Katrina Hillary, University of Colorado, Navajo Tribe of AZ, NM, & UT Namingha, Emergy, Albuquerque Tech-Voc Institute, Zuni Tribe of the Zuni Reservation, NM

Needham, Laura L., Shoreline Community College, Aleut, AK

Nelson, Shannon Lynn, University of New Mexico, Navajo Tribe of AZ, NM, & UT

Nephew-Kennedy, Lesley Ellen, SUNY at Buffalo School of Social Work, Seneca Nation of New York

Nez, Lula, New Mexico Highlands University, Navajo Tribe of AZ, NM, & UT

Nicholson, Kasey Joseph, Montana State University, Fort Belknap Indian Community of the Fort Belknap Reservation of Montana

Nidiffer-Shelor, Amber Lynn, University of Oklahoma, Cherokee Nation, Oklahoma

Nimsey, Dallas Micah, St. Gregory's College, Kiowa Indian Tribe of Oklahoma

Nioce, Paul Anthony, Washburn University, Citizen Potawatomi Nation, Oklahoma

Noisy Hawk, Lynelle Nancy, University of South Dakota School of Medicine, Oglala Sioux Tribe of the Pine Ridge Reservation, SD

Northbird, Stephanie Mae, United Tribes Technical College, Minnesota Chippewa Tribe, Minnesota (Six component reservations: Bois Forte Band (Nett Lake); Fond du Lac Band; Grand Portage Band; Leech Lake Band; Mille Lacs Band; White Earth Band)

Norton, Elizabeth Marie, Eastern Oregon University, Confederated Tribes of the Siletz Reservation, OR

Okleasik, Sara A., Pacific University, Nome Eskimo Community

Olic, Latona Michelle, University of Wyoming School of Pharmacy, Oglala Sioux Tribe of the Pine Ridge Reservation, SD

Olson, Jeremy Christ, University of North Dakota, Minnesota Chippewa Tribe, Minnesota (Six component reservations: Bois Forte Band (Nett Lake); Fond du Lac Band; Grand Portage Band; Leech Lake Band; Mille Lacs Band; White Earth Band)

O'Neal, Jamie Diane, Northern State University, Cheyenne River Sioux Tribe of the Cheyenne River Reservation, SD

Orosco, Mary A., Antioch College, Mescalero Apache Tribe of the Mescalero Reservation, New Mexico

Ortiz, Lisa Dianne, Wayne State University School of Medicine, Cherokee Nation, Oklahoma

Owens, Johnie Louis, Kirksville College of Osteopathic Medicine, Choctaw Nation of Oklahoma

Pack, Bruce Anthony, University of Louisiana-Monroe, Cherokee Nation, Oklahoma

Palacol, Christie Kahikuonalani, University of Oklahoma, Comanche Indian Tribe, OK

Palm, Toby James, Pacific University College, Cherokee Nation, Oklahoma

Paniagua, Calvin Frederick, Arizona School of Health Sciences, Little Traverse Bay Bands of Odawa Indians of Michigan

Pappan, Cynthia Rae, Creighton University School of Pharmacy, Turtle Mountain Band of Chippewa Indians of North Dakota

Parisien-Marion, Shannon Ronette, University of North Dakota, Turtle Mountain Band of Chippewa Indians of North Dakota

Parker, Andrienne, Arizona State University, Navajo Tribe of AZ, NM, & UT

Pearce, Judy Lynn, University of Oklahoma Health Sciences Center, Seminole Nation of Oklahoma

Peltier, Aleta Jeanne, University of North Dakota, Turtle Mountain Band of Chippewa Indians of North Dakota

Peltier, Crystal Gayle, University of North Dakota, Turtle Mountain Band of Chippewa Indians of North Dakota

Penn, Tamara Leigh, University of New Mexico-Albuquerque, Navajo Tribe of AZ, NM, & UT

Peone, Amanda Lee, Salish-Kootenai Community College, Confederated Salish & Kootenai Tribes of the Flathead Reservation, MT

Perdue, Mark Wayne, University of Oklahoma, Cherokee Nation, Oklahoma

Peterson-Lewis, Annie May, Rose State College, Aleut, AK

Pewenofkit, Rowena Jolene, University of Central Oklahoma, Kiowa Indian Tribe of Oklahoma

Phillips, Crystal Lea, University of Oklahoma, Cherokee Nation, Oklahoma

Phillips, Starla Jean, Bacone College, Cherokee Nation, Oklahoma

Pleasants, Tina Marie, Spokane Falls Community College, Central Council of the Tlingit & Haida Indian Tribes

Poolaw, Audrew Winnie, Southwestern Oklahoma State University, Comanche Indian Tribe, OK

Quan, Zellisha Alexis, University of New Mexico-Albuquerque, Zuni Tribe of the Zuni Reservation, NM

Quilt, Lucille Arlene, North Seattle Community College, Quinault Tribe of the Quinault Reservation, WA

Quoshena, Tanya Cojomana, University of Phoenix, Hope Trie of AZ

Radney-Veinote, Ruth W., University of the Pacific, Comanche Indian Tribe, OK

Red Elk, Linsey Beth, Arizona State University, Assiniboine & Sioux Tribes of the Fort Peck Indian Reservation, MT

Redsteer, Sandra Jeanette, Northern Arizona University, Navajo Tribe of AZ, NM, & UT

Reed, Stephanie Levern, University of Central Oklahoma, Cherokee Nation, Oklahoma

Renfrow, Miranda Kirstin, Northeastern State University, Choctaw Nation of Oklahoma

Reynolds, Joel Wayne, University of South Dakota, Rosebud Sioux Tribe of the Rosebud Indian Reservation, SD

Rhynes, Lisa Ann, University of Oklahoma Health Sciences Center, Muskogee (Creek) Nation, Oklahoma

Riley, Gail Arlene, Albuquerque Tech-Voc Institute, Pueblo of Nambe, NM

Robinson, Charlene, University of Arizona College of Medicine, Navajo Tribe of AZ, NM, & UT

Robison-Rivera, Kristie Marie, Southwestern Oklahoma State University, Apache Tribe of Oklahoma

Robnett, Randall Clifton, Southern Nazarene University, Cherokee Nation, Oklahoma

Rogers, Brandon Scott, Northeastern State University, Cherokee Nation, Oklahoma

Rogers, Shawn Thomas, University of Oklahoma, Cherokee Nation, Oklahoma

Ross, Cindy Lee, Arizona State University, Hope Tribe of AZ

Rouse, Brant Philip, University of Oklahoma, Cherokee Nation, Oklahoma

Rucker, Jennifer Ann, University of Oklahoma Health Sciences Center, Cherokee Nation, Oklahoma

Ruleford, Miranda Louisa, University of Tulsa, Cherokee Nation, Oklahoma

Russell, Candice Dawn, University of Missouri-Kansas City, Cherokee Nation, Oklahoma

Rutman, Kristi Arlene, University of Anchorage, Central Council of the Tlingit & Haida Indian Tribes

Saltclah, Waleste Maria, University of New Mexico-Albuquerque, Navajo Tribe of AZ, NM, & UT

Sandoval, Racheal Michele, Arizona State University, Navajo Tribe of AZ, NM, & UT

Scalpcane-Moore, Lavonne Jean, Salish-Kootenai Community College, Northern Cheyenne Tribe of the Northern Cheyenne Indian Reservation, MT

Schmidt, Erin Michele, Oklahoma State University, Muskogee (Creek) Nation, Oklahoma

Schroeder, Dawn Marie, University of North Dakota, Turtle Mountain Band of Chippewa Indians of North Dakota

Scott, Brian Edward, University of Tulsa, Cherokee Nation, Oklahoma

Scott, Jessica Robin, University of Washington, Central Council of the Tlingit & Haida Indian Tribes

Scott, Steven Ray, Southwestern Oklahoma State University, Cherokee Nation, Oklahoma

Seaton, Evelyn J. Crank, New Mexico Highland University, Navajo Tribe of AZ, NM, & UT

Seyler, Debra Jean, Northland Pioneer College, Confederated Salish & Kootenai Tribes of the Flathead Reservation, MT

Shane, Allison Doreen, South Dakota State University, Alaska Native

Shangreau-Pilcher, Rhiannon Brook, South Dakota State University, Oglala Sioux Tribe of the Pine Ridge Reservation, SD

Shepard, Cristopher Allan Joseph, Pomona College, Santee Sioux Tribe of the Santee Reservation of Nebraska

Sherwood, David William, University of Oklahoma, Eastern Shawnee Tribe of Oklahoma

Shields, Deborah, East Central Oklahoma State University, Prairie Ban of Potawantomi Indians, Kansas

Shinn-Jones, Darcy Marie, Northeastern State University, Cherokee Nation, Oklahoma

Shirley, Lenora Jean, University of New Mexico-Albuquerque, Navajo Tribe of AZ, NM, & UT

Shunkamolah, William Henry, University of New Mexico-Albuquerque, Navajo Tribe of AZ, NM, & UT

Silvers, Kristin Gail, University of New Mexico-Gallup, Navajo Tribe of AZ, NM, & UT

Simmons, Jeremiah David, Stanford University, Yankton Sioux Tribe of South Dakota

Sirmans, Jayna Deneice, University of Houston College of Optometry, Choctaw Nation of Oklahoma

Skan, Eric Christopher, Washington State University College of Pharmacy, Ketchikan Indian Corporation

Skippergosh, Brenda Teller, Pima Medical Institute, Menominee Indian Tribe of Wisconsin

Sloan, Rick Michael Wesley, University of Colorado, Cherokee Nation, Oklahoma

Smith, Dallas Rockford, Grand Canyon College, Navajo Tribe of AZ, NM, & UT

Smith, Phyllis Marie, Salish-Kootenai Community College, Fort Belknap Indian Community of the Fort Belknap Reservation of Montana

Spotted Horse, Patricia Jean, American University, Standing Rock Sioux Tribe of N. & S. Dakota

Spurlock, Cory Stephen, University of Oklahoma Health Sciences Center, Citizen Potawatomi Nation, Oklahoma

St. Claire, Billie Jo, North Dakota State University, Turtle Mountain Band of Chippewa Indians of North Dakota

St. Claire, Rhea Neachet, University of North Dakota, Turtle Mountain Band of Chippewa Indians of North Dakota

Stewart, Daryl Lee, University of New Mexico-Gallup, Navajo Tribe of AZ, NM, & UT

Stour, Lana Dawn, Oklahoma State University, Cherokee Nation, Oklahoma

Strobbe, Vonne Kay, University of New Mexico-Albuquerque, Assiniboine & Sioux Tribes of the Fort Peck Indian Reservation, MT

Stuck, Andrew Timothy Lewis, University of Arizona, Navajo Tribe of AZ, NM, & UT

Stump-King, Glynna Marie, University of New Mexico-Gallup, Chippewa Cree Indians of the Rocky Boy's Reservation, MT

Summerlin, Allen William, University of the Pacific, Cherokee Nation, Oklahoma

Sun Rhodes, Neil Altair, Oregon Health Sciences University, Arapahoe Tribe of the Wind River Reservation, Wyoming

Sweeney, Michael Aaron, Brigham Young University, Choctaw Nation of Oklahoma

Swensen, Eric Carl, University of North Dakota, Aleut, AK

Taylor, Jennifer Elise, Eastern Oregon State College, Pit River Tribe, California (includes Big Bend, Lookout, Montgomery Creek & Roaring Creek Rancherias & XL Ranch)

Teasyatwho, Arlene Jean, Northern Arizona University, Navajo Tribe of AZ, NM, & UT

Teller, Pamela, Arizona State University, Narraagansett Indian Tribe of Rhode Island

Teller, Terry Lee, University of New Mexico-Albuquerque, Navajo Tribe of AZ, NM, & UT

Tempel, Dollie Luna, Montana State University School of Nursing, Navajo Tribe of AZ, NM, & UT

Tenequer, Valerie Leigh, Gateway Community College, Navajo Tribe of AZ, NM, & UT

Thomas, Jacob Frederick, Concordia College, Turtle Mountain Band of Chippewa Indians of North Dakota

Thomason-Chavez, Felecia Elena, University of New Mexico-Albuquerque, Navajo Tribe of AZ, NM, & UT

Thompson, Benjamin Campbell, Northeastern State University, Cherokee Nation, Oklahoma

Thompson, Karen Lynn, Arizona State University, Navajo Tribe of AZ, NM, & UT

Thompson, Paula Gail, Grand Canyon College, Navajo Tribe of AZ, NM, & UT

Thompson-Lookingback, Bret R., University of Minnesota-Duluth, Minnesota Chippewa Tribe, Minnesota (Six component reservations; Bois Forte Band (Nett Lake); Fond du Lac Band; Grand Portage Band; Leech Lake Band; Mille Lacs Band; White Earth Band)

Tobacco, Romaine Leigh, Oglala Lakota College, Oglala Sioux Tribe of the Pine Ridge Reservation, SD

Topsky, Elizabeth Marie, University of Washington School of Medicine, Chippewa-Cree Indians of the Rocky Boy's Reservation, MT

Torralba, Vernon Charles, United Tribes Technical College, Crow Tribe of Montana

Torres, Michelle Lynn, Heritage College, Chippewa-Cree Indians of the Rocky Boy's Reservation, MT

Toya, Tirzah Marie, University of New Mexico-Albuquerque, Pueblo of Laguna, NM

Treas, Theresa Wileen, New Mexico State University, Mescalero Apache Tribe of the Mescalero Reservation, NM

Tsethlikai, Tami-Denice, Albuquerque Tech-Voc Institute, Zuni Tribe of the Zuni Reservation, NM

Tsethlikia, Nina Marie, University of Phoenix, Zuni Tribe of the Zuni Reservation, NM

Tsingine, Georgia Lynn, University of Arizona College of Medicine, Navajo Tribe of AZ, NM, & UT

Tso, Shawmarie, Pueblo Community College, Navajo Tribe of AZ, NM, & UT

Tunnell, Kimberly Renee, Oklahoma State University, Kiowa Indian Tribe of Oklahoma

Turney, Jarett Brandon, San Francisco State University, Cherokee Nation, Oklahoma

Upshaw, Juliana, Northern Arizona University, Navajo Tribe of AZ, NM, & UT

Uttchin, Venus, University of Oklahoma, Muskogee (Creek) Nation, OK

Vaile, Marnie Lynn, Montana State University, Blackfeet Tribe of the Blackfeet Indian Reservation of MT

Valdo, Gerald David, Colorado State University, Pueblo of Acoma, NM

Vallie-Merriefield, Pamela Lynn, University of North Dakota, Turtle Mountain Band of Chippewa Indians of North Dakota

Vargas, Raquel Ann, University of Texas Medical Branch-Galveston, Choctaw Nation of Oklahoma

Walker, Jonathan Bayless, Oklahoma Christian College, Choctaw Nation of Oklahoma

Wallace, Kacey Leann, Oklahoma State University College of Osteopathic Medicine, Choctaw Nation of Oklahoma

Walton, Amber Nicole, Washington University, Navajo Tribe of AZ, NM, & UT

Waquie, Monica Janet, New Mexico Highlands University, Pueblo of Jemez, NM

Wartz, Kaye Ellen, Northern Arizona University, Navajo Tribe of AZ, NM, & UT

Watford, Velma Jean, Pima Community College, Navajo Tribe of AZ, NM, & UT

Watson, Matthew Mendioro, Columbia University College of Physicians & Surgeons, Ottawa Tribe of Oklahoma

Wells, Elmer Bruce, North Dakota State University, Three Affiliated Tribes of the Ft. Berthold Reservation, ND

Weston-Traversie, Marnie Lee, Nevada College of Pharmacy, Cheyenne River Sioux Tribe of the Cheyenne River Reservation, SD

White, Richard Kalvin, University of Utah, Navajo Tribe of AZ, NM, & UT

White, Ruth Ellen, Northern Arizona University, Navajo Tribe of AZ, NM, & UT

White, Sidney John, Marquette University, Oneida Tribe of Wisconsin

White, Tammy Jean, University of Buffalo, Seneca Nation of New York

Whited, Stephanie Lynn, University of Southern Mississippi, Nenana Native Association

Whitehair, Jennifer June, University of North Dakota, Navajo Tribe of AZ, NM, & UT

Whitehair, Rosalita Marie, University of New Mexico-Albuquerque, Navajo Tribe of AZ, NM, & UT

Wilcox, Amelia Mae, University of Phoenix, Navajo Tribe of AZ, NM, & UT

Wilkerson, Thaddus Donavan, University of New Mexico-Albuquerque, Navajo Tribe of AZ, NM, & UT

Willcuts, Peggy Sue, South Dakota State University, Rosebud Sioux Tribe of the Rosebud Indian Reservation, SD

Willeto, Virginia, University of New Mexico-Gallup, Navajo Tribe of AZ, NM, & UT

Williams, Alice, Coconino County Community College, Navajo Tribe of AZ, NM, & UT

Williams, Rhonda Lynette, University of New Mexico-Albuquerque, Navajo Tribe of AZ, NM, & UT

Willman, Peggy Ann, University of Alaska, Native Village of Ambler

Wilson, Dena Lynn, University of Washington School of Medicine, Oglala Sioux Tribe of the Pine Ridge Reservation, SD

Wilson, Ladonna Jean, Eastern Oklahoma State College, Cherokee Nation, Oklahoma

Wilson, Mackenzie Paulette, University of Arizona College of Pharmacy, Navajo Tribe of AZ, NM, & UT

Wood, Chad Nathaniel, University of Utah College of Medicine, Cherokee Nation, Oklahoma

Woodin, Angeline Elizabeth, Grand Valley State Univ., Little Traverse Bay Bands of Odawa Indians of Michigan

Woodruff, Patience M., University of North Dakota, Rosebud Sioux Tribe of the Rosebud Indian Reservation, SD

Work, Hugh Edward, University of Oklahoma Health Sciences Center, Choctaw Nation of Oklahoma

Wright, Christy Marie, Arizona State University, Nenana Native Association

Yandell, Seth David, University of Texas Medical Branch-Galveston, Choctaw Nation of Oklahoma

Yazzie, Abiegail B., New Mexico Highlands University, Navajo Tribe of AZ, NM, & UT

Yazzie, Charisse Lindsey, Arizona State University, Navajo Tribe of AZ, NM, & UT

Yazzie, Irene, Weber State University, Navajo Tribe of AZ, NM, & UT

Yazzie, Kelly Colleen Gateway Community College, Navajo Tribe of AZ, NM, & UT

Yazzie, Maria, University of New Mexico-Albuquerque, Navajo Tribe of AZ, NM, & UT

Yazzie, Nazhone Paul, University of Arizona College of Medicine, Navajo Tribe of AZ, NM, & UT

Yazzie, Sharon, Northern Arizona University, Navajo Tribe of AZ, NM, & UT

Yazzie, Timothy, Midwestern University, Navajo Tribe of AZ, NM, & UT

Yazzie-Francisco, Myra Lynn, Phoenix College, Navajo Tribe of AZ, NM, & UT

Yoe, Carolyn Mae, Weber State University, Navajo Tribe of AZ, NM, & UT

Young, Sawar Chalutch, University of Washington, Yurok Tribe of the Yurok Reservation, California

Zahne, Janis Ivy, Arizona State University, Navajo Tribe of AZ, NM, & UT

Zwaryck, Shelby Leona, University of Montana School of Pharmacy, Chippewa-Creek Indians of the Rocky Boy's Reservation, MT

FOR FURTHER INFORMATION CONTACT: The Indian Health Service Scholarship Branch, Twinbrook Metro Plaza, 12300, Twinbrook Parkway, Suite 100, Rockville, Maryland 20852, Telephone: (301) 443-6197, Fax: (301) 443-6048.

Dated: April 16, 2002.
Michael H. Trujillo,
Assistant Surgeon General, Director, Indian Health Service.

[FR Doc. 02-9867 Filed 4-22-02; 8:45 am]

BILLING CODE 4160-16-M